DEPARTMENT OF TRANSPORTATION

Research and Special Programs Administration

[Docket Number RSPA-98-4957; Notice 31]

Submission for OMB Review; Comment Request

ACTION: Request for public comments and OMB approval.

AGENCY: Research and Special Programs Administration, DOT.

SUMMARY: In accordance with the Paperwork Reduction Act of 1995, the Research and Special Programs Administration (RSPA) is publishing a notice in the Federal Register announcing its intention to request a renewal of a currently approved information collection in support of the Office of Pipeline Safety Recordkeeping for Gas Pipeline Operators. This notice requests comments from gas pipeline operators regarding the burden associated with providing recordkeeping information to RSPA. The feedback provided in response to this notice will assist RSPA in assessing how it collects this information and also will ensure that gas pipelines are operated in a safe manner.

DATES: Comments on this notice must be received by December 11, 2001, to be assured of consideration.

ADDRESSES: Comments should identify the docket number of this notice, RSPA-98-4957. Comments can be mailed to Dockets Facility, U.S. Department of Transportation, Plaza 401, 400 Seventh Street SW, Washington, DC 20590-0001. You should submit the original and one copy. If you wish to receive confirmation of receipt of you comments you must include a stamped self-addressed postcard. The Dockets Facility is open from 10 a.m. to 5 p.m., Monday through Friday, except on Federal holidays. In addition, the public may also submit or review comments by accessing the Docket Management System's homepage at http:/dms.dot.gov.

FOR FURTHER INFORMATION CONTACT: Marvin Fell, Office of Pipeline Safety, Research and Special Programs Administration, Department of Transportation, 400 Seventh Street, SW Washington, DC 20590, (202) 366-6205, or by e-mail at marvin.fell@rspa.dot.gov.

SUPPLEMENTARY INFORMATION: Title: Recordkeeping for Gas Pipeline Operators.

OMB Number: 2137-0049.

Type of Request: Renewal of a currently approved information collection.

Abstract: 49 U.S.C. 60117 explains that in order to enable the Secretary of Transportation to decide whether a person transporting gas is complying with Federal safety standards this statue requires the maintenance of records and reports and that these and other requested information be provided to the Department of Transportation upon request. These records help ascertain compliance and provide information for incident investigation.

Estimate of Burden: The average burden hours per operator is 41.5.

Respondents: Gas Pipeline operators.

Estimated Number of Respondents: 22,700.

Estimated Total Annual Burden on Respondents: 940,991.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC, on October 5, 2001.
Stacey L. Gerard,
Associate Administrator for Pipeline Safety.

[FR Doc. 01-25653 Filed 10-11-01; 8:45 am]

BILLING CODE 4910-60-P